DEPARTMENT OF TRANSPORTATION

Federal Transit Administration

[FTA Docket No. FTA-2094-17894]

Agency Information Collection Activity Under OMB Review

AGENCY: Federal Transit Administration, DOT.

ACTION: Request for emergency approval process.

SUMMARY: In accordance with the Paperwork Reduction Act of 1995 (44 U.S.C. 3501 et seq.), this announces that the Information Collection Request (ICR) abstracted below has been forwarded to the Office of Management and Budget (OMB) to request an emergency approval process. FTA requested approval of this ICR by 30 days from the date of publication of this notice.

DATES: Comments must be submitted before June 21, 2004.

FOR FURTHER INFORMATION CONTACT: Sylvia L. Marion, Office of Administration, Office of Management Planning, (202) 366-6680.

SUPPLEMENTARY INFORMATION: Title: United We Ride State Coordination Grants.

Type of Request: Emergency Approval Request.

OMB Control Number: 2132-New.

Form(s): N/A.

Affected Public: State agencies.

Abstract: FTA provides financial assistance to states, local governments, private nonprofit agencies, and public bodies through 49 U.S.C. 5314 for transportation services designed to meet the needs of elderly persons and persons with disabilities. The General Accounting Office (GAO) issued two reports on Transportation for Disadvantaged Populations (June 2003 and February 2004). In these reports, GAO identified 62 federal programs that support transportation services for individuals with disabilities, older adults and persons with lower incomes. GAO also identified a significant number of obstacles and barriers to coordinating services.

On February 24, 2004, President Bush signed an Executive Order Number 13330 on Human Service Transportation Coordination establishing the Federal Interagency Coordinating Council on Access and Mobility and requiring attention to the obstacles outlined by GAO. The President's Executive Order requires agencies to identify and implement strategies for enhancing coordinated services within a one-year period. The United We Ride initiative includes a State Coordination Grant that provides support to help states address the issues outlined both by GAO and by the President in the Executive Order.

Estimated Total Annual Burden: 500 hours.

ADDRESSES: All written comments must refer to the docket number that appears at the top of this document and be submitted to the Office of Information and Regulatory Affairs, Office of Management and Budget, 725-17th Street, NW., Washington, DC 20503, Attention: FTA Desk Officer.

Comments are Invited On: Whether the proposed collection of information is necessary for the proper performance of the functions of the Department, including whether the information will have practical utility; the accuracy of the Department's estimate of the burden of the proposed information collection; ways to minimize the burden of the collection of information on respondents, including the use of automated collection techniques or other forms of information technology.

Dated: May 18, 2004.
Ann M. Linnertz,
Deputy Associate Administrator for Administration.

[FR Doc. 04-11593 Filed 5-20-04; 8:45 am]

BILLING CODE 4910-57-M